DEPARTMENT OF THE INTERIOR

Bureau of Land Management

[LLWO350000.L14300000.PN0000]

Renewal and Revision of Information Collection, OMB Control Number 1004-0009

AGENCY: Bureau of Land Management, Interior.

ACTION: 30-day Notice and Request for Comments.

SUMMARY: The Bureau of Land Management (BLM) has submitted an information collection request to the Office of Management and Budget (OMB) to continue the collection of information from individuals, State and local governments, and the private sector in applications to use, occupy, or develop public lands administered by the BLM. This information collection activity was previously approved by the OMB, and was assigned control number 1004-0009.

DATES: The OMB is required to respond to this information collection request within 60 days but may respond after 30 days. Therefore, written comments should be received on or before February 22, 2011.

ADDRESSES: Submit comments directly to the Desk Officer for the Department of the Interior (OMB # 1004-0009), Office of Management and Budget, Office of Information and Regulatory Affairs, by fax 202-395-5806, or by electronic mail at oira_docket@omb.eop.gov. Please send a copy of your comments to the BLM by mail, fax, or electronic mail.

Mail: Bureau Information Collection Clearance Officer (WO-630), Department of the Interior, 1849 C Street, NW., Mail Stop 401 LS, Washington, DC 20240.

Electronic mail: jean_sonneman@blm.gov.

Fax: to Jean Sonneman at 202-912-7102. Regardless of the form of your comment, please indicate “OMB # 1004-0009.”

FOR FURTHER INFORMATION CONTACT: To receive a copy of the information collection request, contact Vanessa Engle, Division of Lands, Realty, and Cadastral Survey, at 202-912-7339. Persons who use a telecommunication device for the deaf (TDD) may call the Federal Information Relay Service (FIRS) at 1-800-877-8339, to leave a message for Ms. Engle.

SUPPLEMENTARY INFORMATION: The Paperwork Reduction Act provides that an agency may not conduct or sponsor a collection of information unless it displays a currently valid OMB control number. Until OMB approves a collection of information, you are not obligated to respond. 44 U.S.C. 3506 and 3507.

OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR part 4700.

The following information is provided for the information collection:

Title: Land Use Application and Permit (43 CFR Part 2920).

Forms: Form 2920-1, Land Use Application and Permit.

OMB Control Number: 1004-0009.

Abstract: Section 302 of the Federal Land Policy and Management Act of 1976 (FLPMA) (43 U.S.C. 1732) and regulations at 43 CFR part 2920 authorize the issuance of leases, permits, and easements for the use, occupancy, or development of public lands administered by the BLM. Respondents may be individuals, large or small private entities, or State and local governments. They may use Form 2910-1 to apply for leases, permits, or easements, and the BLM uses the information collected on Form 2920-1 to determine whether or not to grant the applications.

Various land uses may be authorized under FLPMA Section 302 and 43 CFR part 2920. Examples may include commercial filming, advertising displays, commercial or noncommercial croplands, apiaries, livestock holding or feeding areas not related to grazing permits and leases, harvesting of native or introduced species, temporary or permanent facilities for commercial purposes (other than mining claims), ski resorts, construction equipment storage sites, assembly yards, oil rig stacking sites, mining claim occupancy if the residential structures are not incidental to the mining operation, and water pipelines and well pumps related to irrigation and non-irrigation facilities.

Frequency of Collection: On occasion.

Estimated Number and Description of Respondents: 407 responses annually: 66 from individuals, 45 from State and local governments, 286 typical responses from the private sector, and 10 complex responses from the private sector.

Estimated Reporting and Recordkeeping “Hour” Burden: The estimated annual reporting burden for this collection is 1,597 hours: 66 hours for individuals, 45 hours for State and local governments, 286 hours for typical responses from the private sector, and 1,200 hours for complex responses from the private sector.

The burdens for complex responses from the private sector reflect the uses sought in those applications, which may involve substantial construction, development, or land improvements. Typical responses from the private sector, as well as responses from individuals and State and local governments, seek authorization for uses involving few or no land improvements, construction, investment, or alteration of public lands.

60-Day Notice: As required by 5 CFR 1320.8(d), the BLM published the 60-day notice in the Federal Register on August 3, 2010 (75 FR 45649), soliciting comments from the public and other interested parties. The comment period closed on October 4, 2010. The BLM did not receive any comments from the public in response to this notice, and did not receive any unsolicited comments.

The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0009 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2011-1201 Filed 1-19-11; 8:45 am]

BILLING CODE 4310-84-P